DEPARTMENT OF THE INTERIOR

Fish and Wildlife Service

[FWS-R8-FHC-2014-N064; FXFR1334088TWG0W4-123-FF08EACT00]

Trinity Adaptive Management Working Group; Public Meeting and Teleconference

AGENCY: Fish and Wildlife Service, Interior.

ACTION: Notice.

SUMMARY: We, the U.S. Fish and Wildlife Service, announce a joint meeting between the Trinity Adaptive Management Working Group (TAMWG) and Trinity Management Council (TMC). The TAMWG is a Federal advisory committee that affords stakeholders the opportunity to give policy, management, and technical input concerning Trinity River (California) restoration efforts to the Trinity Management Council (TMC). The TMC interprets and recommends policy, coordinates and reviews management actions, and provides organizational budget oversight.

DATES: Public meeting and Teleconference: TAMWG and TMC will meet Thursday, May 15, 2014, from 9 a.m. to 3 p.m. Pacific time. Deadlines: For deadlines and directions on registering or to listen to the meeting by phone, and submitting written material, please see “Public Input” under SUPPLEMENTARY INFORMATION.

ADDRESSES: The in-person meeting will be held at the Weaverville Victorian Inn, 2015 Main Street, Weaverville, CA 96093. You may participate in person or by teleconference.

FOR FURTHER INFORMATION CONTACT: Elizabeth W. Hadley, Redding Electric Utility, 777 Cypress Avenue, Redding, CA 96001; telephone: 530-339-7327; email: ehadley@reupower.com.

SUPPLEMENTARY INFORMATION: In accordance with the requirements of the Federal Advisory Committee Act, 5 U.S.C. App., this notice announces a joint meeting of the TAMWG and TMC.

Background

The TAMWG affords stakeholders the opportunity to give policy, management, and technical input concerning Trinity River (California) restoration efforts to the TMC. The TMC interprets and recommends policy, coordinates and reviews management actions, and provides organizational budget oversight.

Meeting Agenda

• Discussion on common items of interest to the Trinity River Restoration Program

The final agenda will be posted on the Internet at http://www.fws.gov/arcata.

Public Input

If you wish to | You must contact Elizabeth Hadley (FOR FURTHER INFORMATION CONTACT) no later than
Listen to the teleconference via telephone | May 9, 2014.
Submit written information or questions for the TAMWG to consider during the teleconference | May 9, 2014.

Submitting Written Information or Questions

Interested members of the public may submit relevant information or questions for the TAMWG to consider during the meeting. Written statements must be received by the date listed in “Public Input,” so that the information may be available to the TAMWG for their consideration prior to this teleconference. Written statements must be supplied to Elizabeth Hadley in one of the following formats: One hard copy with original signature, or one electronic copy with a digital signature via email (acceptable file formats are Adobe Acrobat PDF, MS Word, PowerPoint, or rich text file).

Registered speakers who wish to expand on their oral statements, or those who wished to speak but could not be accommodated on the agenda, may submit written statements to Elizabeth Hadley up to 7 days after the meeting.

Meeting Minutes

Summary minutes of the meeting will be maintained by Elizabeth Hadley (see FOR FURTHER INFORMATION CONTACT). The draft minutes will be available for public inspection within 15 days after the meeting, and will be posted on the TAMWG Web site at http://www.fws.gov/arcata.

Dated: April 17, 2014.
Vina N. Frye,
Fish Biologist, Arcata Fish and Wildlife Office, Arcata, California.

[FR Doc. 2014-09240 Filed 4-22-14; 8:45 am]

BILLING CODE 4310-55-P